DEPARTMENT OF TRANSPORTATION

National Highway Traffic Safety Administration

[Docket No. NHTSA-2005-23090]

Amendments to Highway Safety Program Guidelines

AGENCY: National Highway Traffic Safety Administration (NHTSA), Department of Transportation.

ACTION: Request for comments, highway safety program guidelines.

SUMMARY: Section 402 of title 23 of the United States Code requires the Secretary of Transportation to promulgate uniform guidelines for State highway safety programs.

NHTSA is seeking comments on proposed amendments to six (6) of the existing guidelines to reflect program methodology and approaches that have proven to be successful and are based in sound science and program administration. The guidelines the agency proposes to revise are as follows: Guideline No. 3 Motorcycle Safety, Guideline No. 8 Impaired Driving, Guideline No. 14 Pedestrian and Bicycle Safety, Guideline No. 15 Traffic Enforcement Services (formerly Police Traffic Services), Guideline No. 19 Speed Management (formerly Speed Control), and Guideline No. 20 Occupant Protection.

NHTSA believes the proposed revisions will provide more accurate, current and detailed guidance to the States. The revised guidelines will be made publicly available on the NHTSA Web site.

DATES: You should submit your comments early enough to ensure that Docket Management receives them not later than March 13, 2006.

ADDRESSES: You may submit comments in writing to: Docket Management, Room PL-401, 400 Seventh Street, SW., Washington, DC 20590. Alternatively, you may submit your comments electronically by logging onto the Docket Management System (DMS) Web site at http://dms.dot.gov. Click on “Help & Information” or “Help/Info” to view instructions for filing your comments electronically. Regardless of how you submit your comments, you should mention the docket number of this document.

FOR FURTHER INFORMATION CONTACT: The following person at the National Highway Traffic Safety Administration, 400 Seventh Street, SW., Washington, DC 20590: Julie Ross, Program Development and Delivery, NTI-100, telephone (202) 366-9895, facsimile: (202) 366-7149.

SUPPLEMENTARY INFORMATION:

Background

Section 402 of title 23 of the United States Code requires the Secretary of Transportation to promulgate uniform guidelines for State highway safety programs. As the highway safety environment changes, it is necessary for NTHSA to update the guidelines to provide current information on effective program content for States to use in developing and assessing their traffic safety programs. Each of the proposed revised guidelines reflects the sound science and the experience of States in traffic safety program content. NHTSA will update the guidelines periodically to reflect new issues and to emphasize program methodology and approaches that have proven to be highly effective in these program areas.

The guidelines offer direction to States in formulating their highway safety plans for highway safety efforts that are supported with Section 402 grant funds. The guidelines provide a framework for developing a balanced highway safety program and serve as a tool with which States can assess the effectiveness of their own programs. NHTSA encourages States to use these guidelines and build upon them to optimize the effectiveness of highway safety programs conducted at the State and local level. The revised guidelines will emphasize areas of national concern and highlight effective countermeasures. The six (6) guidelines NHTSA plans to revise as a result of this Notice represent the first in a series of revisions NHTSA will propose. As each guideline is updated, it will include a date representing the date of its revision.

The guidelines (as of July 18, 1995) can be found in their entirety in the Highway Safety Grant Management Manual or at http://www.nhtsa.dot.gov/nhtsa/whatsup/tea21/GrantMan/HTML/05h_ProgGuidlines.html.

Comments

Interested persons are invited to submit comments in response to this request for comments. Your comments must be written and in English. To ensure that your comments are correctly filed in the Docket, please include the docket number of this document in your comments.

Your comments must not be more than 15 pages long. (49 CFR 553.21). We established this limit to encourage you to write your primary comments in a concise fashion. However, you may attach necessary additional documents in your comments. There is no limit on the length of the attachments.

Please submit two copies of your comments, including the attachments, to Docket Management at the address given above under ADDRESSES.If you wish Docket Management to notify you upon its receipt of your comments, enclose a self-addressed, stamped postcard in the envelope containing your comments. Upon receiving your comments, Docket Management will return the postcard by mail. If you wish to submit any information under a claim of confidentiality, you should submit three copies of your complete submission, including the information you claim to be confidential business information, to the Chief Counsel at the following address: National Highway Traffic Safety Administration, 400 Seventh Street, SW., Washington, DC 20590. In addition, you should submit two copies, from which you have deleted the claimed confidential business information, to Docket Management at the address given above under ADDRESSES. When you send a comment containing information claimed to be confidential business information, you should include a cover letter setting forth the information specified in our confidential business information regulation (49 CFR part 512).

We will consider all comments that Docket Management receives before the close of business on the comment closing date indicated above under DATES. To the extent possible, we will also consider comments that Docket Management receives after that date.

You may read the comments received by Docket Management, Room PL-401, 400 Seventh Street, SW., Washington, DC 20590. The hours of the Docket are 9 a.m. to 5 p.m., Monday to Friday, except Federal holidays. You may also see the comments on the Internet. To read the comments on the Internet, take the following steps:

• Go to the Docket Management System (DMS) Web page of the Department of Transportation (http://dms.dot.gov).

• On that page, click on “search.”

• On the next page (http://dms.dot.gov/search/), type in the five-digit docket number shown at the beginning of this document. Example: If the docket number were “NHTSA-2001-12345,” you would type “12345.” After typing the docket number, click on “search.”

• On the next page, which contains docket summary information for the docket you selected, click on the desired comments. You may download the comments.

Please note that even after the comment closing date, we will continue to file relevant information in the Docket as it becomes available. Further, some people may submit late comments. Accordingly, we recommend that you periodically check the Docket for new material.

In consideration of the foregoing, NHTSA proposes to amend the guidelines as follows.

Highway Safety Program Guideline

Motorcycle Safety Guideline No. 3

Each State, in cooperation with its political subdivisions and tribal governments, should develop and implement a comprehensive highway safety program, reflective of State demographics, to achieve a significant reduction in traffic crashes, fatalities and injuries on public roads. The highway safety program should include a comprehensive motorcycle safety program that aims to reduce motorcycle crashes and related deaths and injuries. Each comprehensive State motorcycle safety program should address the use of helmets (meeting Federal Motor Vehicle Safety Standard 218) and other protective gear, proper licensing, impaired riding, rider training, conspicuity and motorist awareness. This guideline describes the components that a State motorcycle safety program should include and the criteria that the program components should meet.

I. Program Management

Each State should have centralized program planning, implementation and coordination to identify the nature and extent of its motorcycle safety problems, to establish goals and objectives for the State's motorcycle safety program and to implement projects to reach the goals and objectives. State motorcycle safety plans should:

• Designate a lead agency for motorcycle safety;

• Develop funding sources;

• Collect and analyze data on motorcycle crashes, injuries and fatalities;

• Identify and prioritize the State's motorcycle safety problem areas;

• Encourage collaboration among agencies and organizations responsible for, or impacted by, motorcycle safety issues;

• Develop programs (with specific projects) to address problems;

• Coordinate motorcycle safety projects with those for the general motoring public;

• Integrate motorcycle safety into State strategic highway safety plans, and other related highway safety activities including impaired driving, occupant protection, speed management and driver licensing programs; and

• Routinely evaluate motorcycle safety programs and services.

II. Motorcycle Personal Protective Equipment

Each State should support passage and enforcement of mandatory all-rider motorcycle helmet use laws. In addition, each State should encourage motorcycle operators and passengers to use the following protective equipment through an aggressive communication campaign:

• Motorcycle helmets that meet the Federal helmet standard;

• Proper clothing, including gloves, boots, long pants and a durable long-sleeved jacket; and

• Eye and face protection.

Additionally, each passenger should have a seat and footrest.

III. Motorcycle Operator Licensing

States should require every person who operates a motorcycle on public roadways to pass an examination designed especially for motorcycle operation and to hold a license endorsement specifically authorizing motorcycle operation. Each State should have a motorcycle licensing system that requires:

• Motorcycle operator's manual that contains essential safe riding information;

• Motorcycle license examination, including knowledge and skill tests, and State licensing medical criteria;

• License examiner training specific to testing of motorcyclists;

• Motorcycle license endorsement;

• Cross referencing of motorcycle registrations with motorcycle licenses to identify motorcycle owners who may not have the proper endorsement;

• Motorcycle license renewal requirements;

• Learner's permits issued for a period of 90 days and the establishment of limits on the number and frequency of learner's permits issued per applicant to encourage each motorcyclist to get full endorsement; and

• Penalties for violation of motorcycle licensing requirements.

IV. Motorcycle Rider Education and Training

Safe motorcycle operation requires specialized training by qualified instructors. Each State should establish a State Motorcycle Rider Education Program that has:

• A source of program funding;

• A state organization to administer the program;

• A mandate to use the State-approved curriculum;

• Reasonable availability of rider education courses for all interested residents of legal riding age;

• A documented policy for instructor training and certification;

• Incentives for successful course completion such as licensing test exemption;

• A plan to address the backlog of training, if applicable;

• State guidelines for conduct and quality control of the program; and

• A program evaluation plan.

V. Motorcycle Operation Under the Influence of Alcohol or Other Drugs

Each State should ensure that programs addressing impaired driving include an impaired motorcyclist component. The following programs should be used to reach impaired motorcyclists:

• Community traffic safety and other injury control programs, including outreach to motorcyclist clubs and organizations;

• Youth anti-impaired driving programs and campaigns;

• High visibility law enforcement programs and communications campaigns;

• Judge and prosecutor training programs;

• Anti-impaired driving organizations' programs;

• College and school programs;

• Workplace safety programs;

• Event-based programs such as motorcycle rallies, shows, etc.; and

• Server training programs.

VI. Legislation and Regulations

Each State should enact and enforce motorcycle-related traffic laws and regulations, including laws that require all riders to use motorcycle helmets compliant with the Federal helmet standard. Specific policies should be developed to encourage coordination with appropriate public and private agencies in the development of regulations and laws to promote motorcycle safety.

VII. Law Enforcement

Each State should ensure that State and community motorcycle safety programs include a law enforcement component. Each State should emphasize strongly the role played by law enforcement personnel in motorcycle safety. Essential components of that role include:

• Developing knowledge of motorcycle crash situations, investigating crashes, and maintaining a reporting system that documents crash activity and supports problem identification and evaluation activities;

• Providing communication and education support;

• Providing training to law enforcement personnel in motorcycle safety, including how to identify impaired motorcycle operators and helmets that do not meet FMVSS 218; and

• Establishing agency goals to support motorcycle safety.

VIII. Highway Engineering

Traffic engineering is a critical element of any crash reduction program. This is true not only for the development of programs to reduce an existing crash problem, but also to design transportation facilities that provide for the safe movement of motorcyclists and all other motor vehicles.

Balancing the needs of motorcyclists must always be considered. Therefore, each State should ensure that State and community motorcycle safety programs include a traffic-engineering component that is coordinated with enforcement and educational efforts. This engineering component should improve the safety of motorcyclists through the design, construction, operation and maintenance of engineering measures. These measures may include, but should not be limited to:

• Considering motorcycle needs when selecting pavement skid factors; and

• Providing advance warning signs to alert motorcyclists to unusual or irregular roadway surfaces.

IX. Motorcycle Rider Conspicuity and Motorist Awareness Programs

State motorcycle safety programs, communication campaigns and state motor vehicle operator manuals should emphasize the issues of rider conspicuity and motorist awareness of motorcycles. These programs should address:

• Daytime use of motorcycle headlights;

• Brightly colored clothing and reflective materials for motorcycle riders and motorcycle helmets with high daytime and nighttime conspicuity;

• Lane positioning of motorcycles to increase vehicle visibility;

• Reasons why motorists do not see motorcycles; and

• Ways that other motorists can increase their awareness of motorcyclists.

X. Communication Program

States should develop and implement communications strategies directed at specific high-risk populations as identified by data. Communications should highlight and support specific policy and progress underway in the States and communities and should be culturally relevant and appropriate to the audience. States should:

• Focus their communication efforts to support the overall policy and program;

• Review data to identify populations at risk; and

• Use a mix of media strategies to draw attention to the problem.

XII. Program Evaluation and Data

Both problem identification and continual evaluation require effective record keeping by State and local government. The State should identify the frequency and types of motorcycle crashes. After problem identification is complete, the State should identify appropriate countermeasures.

The State should promote effective evaluation by:

• Supporting the analysis of police crash reports involving motorcyclists;

• Encouraging, supporting and training localities in process, impact and outcome evaluation of local programs;

• Conducting and publicizing statewide surveys of public knowledge and attitudes about motorcycle safety;

• Maintaining awareness of trends in motorcycle crashes at the national level and how trends might influence activities statewide;

• Evaluating the use of program resources and the effectiveness of existing countermeasures for the general public and high-risk population; and

• Ensuring that evaluation results are used to identify problems, plan new programs and improve existing programs.

Highway Safety Program Guideline

Impaired Driving

Guideline No. 8

Each State, in cooperation with its political subdivisions and tribal governments, should develop and implement a comprehensive highway safety program, reflective of State demographics, to achieve a significant reduction in traffic crashes, fatalities and injuries on public roads. The highway safety program should include an Impaired Driving component that addresses highway safety activities related to impaired driving. (Throughout this guideline, the term impaired driving means operating a motor vehicle while affected by alcohol and/or other drugs, including prescription drugs, over-the-counter medicines or illicit substances.) This guideline describes the components that a State impaired driving program should include and the criteria that the program components should meet.

I. Program Management and Strategic Planning

An effective impaired driving program should be based on strong leadership, sound policy development, program management and strategic planning, and an effective communication program. Program efforts should be data-driven, focusing on populations and geographic areas that are most at risk, and science-based, determined through independent evaluation as likely to succeed. Programs and activities should be guided by problem identification and carefully managed and monitored for effectiveness. Adequate resources should be devoted to the problem and costs should be borne, to the extent possible, by impaired drivers. Each State should include the following as part of their impaired driving program:

• Task Forces or Commissions: Convene Driving While Impaired (DWI) task forces or commissions to foster leadership, commitment and coordination among all parties interested in impaired driving issues, including both traditional and non-traditional parties, such as highway safety enforcement, criminal justice, driver licensing, treatment, liquor law enforcement, business, medical, health care, advocacy and multicultural groups and the media.

• Strategic Planning: Develop and implement an overall plan for short- and long-term impaired driving activities based on careful problem identification.

• Program Management: Establish procedures to ensure that program activities are implemented as intended.

• Resources: Allocate sufficient funding, staffing and other resources to support impaired driving programs. Programs should aim for self-sufficiency and, to the extent possible, costs should be borne by impaired drivers.

• Data and Records: Establish and maintain a records system that uses data from other sources [e.g., U.S. Census, Fatality Analysis Reporting System (FARS), Crash Outcome Data Evaluation System (CODES)] to fully support the impaired driving program, and that is guided by a statewide traffic records coordinating committee (TRCC) that represents the interests of all public and private sector stakeholders and the wide range of disciplines that need the information.

• Communication Program: Develop and implement a comprehensive communications program that supports priority policies and program efforts and is directed at impaired driving; underage drinking; and reducing the risk of injury, death and resulting medical, legal, social and other costs.

II. Prevention

Prevention programs should aim to reduce impaired driving through public health approaches, including altering social norms, changing risky or dangerous behaviors and creating safer environments. Prevention programs should promote communication strategies that highlight and support specific policies and program activities and promote activities that educate the public on the effects of alcohol and other drugs, limit the availability of alcohol and other drugs, and discourage those impaired by alcohol and other drugs from driving.

Prevention programs may include responsible alcohol service practices, transportation alternatives and community-based programs carried out in schools, work sites, medical and health care facilities, and by community coalitions. Prevention efforts should be directed toward populations at greatest risk. Programs and activities should be science-based and proven effective and include a communication component. Each State should:

• Promote Responsible Alcohol Service: Promote policies and practices that prevent underage drinking by people under age 21 and over-service to people ages 21 and older.

• Promote Transportation Alternatives: Promote alternative transportation programs, such as designated driver and safe ride programs, especially during high-risk times, which enable drinkers ages 21 and older to reach their destinations without driving.

• Conduct Community-Based Programs: Conduct community-based programs that implement prevention strategies at the local level through a variety of settings, including schools, employers, medical and health care professionals, community coalitions and traffic safety programs.

○ Schools: School-based prevention programs, beginning in elementary school and continuing through college and trade school, should play a critical role in preventing underage drinking and impaired driving. These programs should be developmentally appropriate, culturally relevant and coordinated with drug prevention and health promotion programs.

○ Employers: States should provide information and technical assistance to employers and encourage employers to offer programs to reduce underage drinking and impaired driving by employees and their families.

○ Community Coalitions and Traffic Safety Programs: Community coalitions and traffic safety programs should provide the opportunity to conduct prevention programs collaboratively with other interested parties at the local level and provide communications toolkits for local media relations, advertising and public affairs activities. Coalitions may include representatives of government such as highway safety; enforcement; criminal justice; liquor law enforcement; public health; driver licensing and education; business, including employers and unions; the military; medical, health care and treatment communities; multicultural, faith-based, advocacy and other community groups; and neighboring countries, as appropriate.

III. Criminal Justice System

Each State should use the various components of its criminal justice system—laws, enforcement, prosecution, adjudication, criminal and administrative sanctions and communications—to achieve both specific and general deterrence.

Specific deterrence focuses on individual offenders and seeks to ensure that impaired drivers will be detected, arrested, prosecuted and subject to swift, sure and appropriate sanctions. Using these measures, the criminal justice system seeks to reduce recidivism. General deterrence seeks to increase the public perception that impaired drivers will face severe consequences, discouraging individuals from driving impaired.

A multidisciplinary approach and close coordination among all components of the criminal justice system are needed to make the system work effectively. In addition, coordination is needed among law enforcement agencies at the State, county, municipal and tribal levels to create and sustain both specific and general deterrence.

A. Laws

Each State should enact impaired driving laws that are sound, rigorous and easy to enforce and administer. The laws should clearly define offenses, contain provisions that facilitate effective enforcement and establish effective consequences.

The laws should define offenses to include:

• Driving while impaired by alcohol or other drugs (whether illegal, prescription or over-the-counter) and treating both offenses similarly;

• Driving with a Blood Alcohol Concentration (BAC) limit of 0.08, making it illegal “per se” to operate a vehicle at or above this level without having to prove impairment;

• Driving with a high BAC (i.e., 0.16 BAC or greater) with enhanced sanctions above the standard impaired driving offense;

• Zero Tolerance for underage drivers, making it illegal “per se” for people under age 21 to drive with any measurable amount of alcohol in their system (i.e., 0.02 BAC or greater);

• Repeat offender with increasing sanctions for each subsequent offense;

• BAC test refusal with sanctions at least as strict or stricter than a high BAC offense;

• Driving with a license suspended or revoked for impaired driving, with vehicular homicide or causing personal injury while driving impaired as separate offenses with additional sanctions;

• Open container, prohibiting possession or consumption of any open alcoholic beverage in the passenger area of a motor vehicle located on a public highway or right-of-way (limited exceptions are permitted under 23 U.S.C. 154 and its implementing regulations, 23 CFR part 1270); and

• Primary safety belt provisions that do not require that officers observe or cite a driver for a separate offense other than a safety belt violation.

The laws should include provisions to facilitate effective enforcement that:

• Authorize law enforcement to conduct sobriety checkpoints, (i.e., stop vehicles on a nondiscriminatory basis to determine whether operators are driving while impaired by alcohol or other drugs);

• Authorize law enforcement to use passive alcohol sensors to improve the detection of alcohol in drivers;

• Authorize law enforcement to obtain more than one chemical test from an operator suspected of impaired driving, including preliminary breath tests, evidential breath tests, and screening and confirmatory tests for alcohol or other impairing drugs; and

• Require law enforcement to conduct mandatory BAC testing of drivers involved in crashes producing fatal or serious injuries.

The laws should establish effective penalties that include:

• Administrative license suspension or revocation (ALR) for failing or refusing to submit to a BAC or other drug test;

• Prompt and certain administrative license suspension of at least 90 days for first-time offenders determined by chemical test(s) to have a BAC at or above the State's “per se” level;

• Enhanced penalties for BAC test refusals, high BAC, repeat offenders, driving with a suspended or revoked license, driving impaired with a minor in the vehicle, vehicular homicide or causing personal injury while driving impaired, including: longer license suspension or revocation; installation of ignition interlock devices; license plate confiscation; vehicle impoundment, immobilization or forfeiture; intensive supervision and electronic monitoring; and threat of imprisonment;

• Assessment for alcohol or other drug abuse problems for all impaired driving offenders and, as appropriate, treatment, abstention from use of alcohol and other drugs and frequent monitoring; and

• Driver license suspension for people under age 21 for any violation of law involving the use or possession of alcohol or illicit drugs.

B. Enforcement

Each State should conduct frequent, highly visible, well publicized and fully coordinated impaired driving (including zero tolerance) law enforcement efforts throughout the State, especially in locations where alcohol-related fatalities most often occur. To maximize visibility, States should maximize contact between officers and drivers, using sobriety checkpoints and saturation patrols and should widely publicize these efforts—before, during and after they occur. Highly visible, highly publicized efforts should be conducted periodically and also on a sustained basis throughout the year. To maximize resources, the State should coordinate efforts among State, county, municipal and tribal law enforcement agencies. Each State should coordinate efforts with liquor law enforcement officials. To increase the probability of detection, arrest and prosecution, participating officers should receive training in the latest law enforcement techniques, including Standardized Field Sobriety Testing (SFST), and selected officers should receive training in media relations and Drug Evaluation and Classification (DEC).

C. Publicizing High Visibility Enforcement

Each State should communicate its impaired driving law enforcement efforts and other elements of the criminal justice system to increase the public perception of the risks of detection, arrest, prosecution and sentencing for impaired driving. Each State should develop and implement a year-round communications plan that provides emphasis during periods of heightened enforcement, provides sustained coverage throughout the year, includes both paid and earned media and uses messages consistent with National campaigns. Publicity should be culturally relevant, appropriate to the audience and based on market research.

D. Prosecution

States should implement a comprehensive program to visibly, aggressively and effectively prosecute and publicize impaired driving-related efforts, including use of experienced prosecutors (e.g., Traffic Safety Resource Prosecutors), to help coordinate and deliver training and technical assistance to prosecutors handling impaired driving cases throughout the State.

E. Adjudication

States should impose effective, appropriate and research-based sanctions, followed by close supervision, and the threat of harsher consequences for non-compliance when adjudicating cases. Specifically, DWI Courts should be used to reduce recidivism among repeat and high BAC offenders. DWI Courts involve all criminal justice stakeholders (prosecutors, defense attorneys, probation officers and judges) along with alcohol and drug treatment professionals and use a cooperative approach to systematically change participant behavior. The effectiveness of enforcement and prosecution efforts is strengthened by knowledgeable, impartial and effective adjudication. Each State should provide state-of-the-art education to judges, covering SFST, DEC, alternative sanctions and emerging technologies.

Each State should utilize DWI courts to help improve case management and to provide access to specialized personnel, speeding up disposition and adjudication. DWI courts also increase access to testing and assessment to help identify DWI offenders with addiction problems and to help prevent them from re-offending. DWI courts additionally help with sentence monitoring and enforcement. Each State should provide adequate staffing and training for probation programs with the necessary resources, including technological resources, to monitor and guide offender behavior.

F. Administrative Sanctions and Driver Licensing Programs

States should use administrative sanctions, including the suspension or revocation of an offender's driver's license; the impoundment, immobilization or forfeiture of a vehicle; the impoundment of a license plate; or the use of ignition interlock devices, which are among the most effective actions to prevent repeat impaired driving offenses. In addition, other licensing activities can prove effective in preventing, deterring and monitoring impaired driving, particularly among novice drivers. Publicizing related efforts is part of a comprehensive communications program.

• Administrative License Revocation and Vehicle Sanctions: Each State's Motor Vehicle Code should authorize the imposition of administrative penalties by the driver licensing agency upon arrest for violation of the state's impaired driving laws, including administrative driver's license suspension, vehicle sanctions and installation of ignition interlock devices.

• Programs: Each State's driver licensing agency should conduct programs that reinforce and complement the State's overall program to deter and prevent impaired driving, including graduated driver licensing (GDL) for novice drivers, education programs that explain alcohol's effects on driving and the State's zero tolerance laws and a program to prevent individuals from using a fraudulently obtained or altered driver's license.

IV. Communication Program

States should develop and implement a comprehensive communication program that supports priority policies and program efforts. States should:

• Develop and implement a year-round communication plan that includes policy and program priorities; comprehensive research; behavioral and communications objectives; core message platforms; campaigns that are audience relevant and linguistically appropriate; key alliances with private and public partners; specific activities for advertising, media relations and public affairs; special emphasis periods during high risk times; and evaluation and survey tools;

• Employ a communications strategy principally focused on increasing knowledge and awareness, changing attitudes and influencing and sustaining appropriate behavior;

• Use traffic-related data and market research to identify specific audiences segments to maximize resources and effectiveness; and

• Adopt a comprehensive marketing approach that coordinates elements like media relations, advertising and public affairs/advocacy.

V. Alcohol and Other Drug Misuse: Screening, Assessment, Treatment and Rehabilitation

Impaired driving frequently is a symptom of a larger alcohol or other drug problem. Many first-time impaired driving offenders and most repeat offenders have alcohol or other drug abuse or dependency problems. Without appropriate assessment and treatment, these offenders are more likely to repeat their crimes.

In addition, alcohol use leads to other injuries and health care problems. Frequent visits to emergency departments present an opportunity for intervention, which might prevent future arrests or motor vehicle crashes, and result in decreased alcohol consumption and improved health.

Each State should encourage its employers, educators and health care professionals to implement a system to identify, intervene and refer individuals for appropriate substance abuse treatment.

• Screening and Assessment: Each State should encourage its employers, educators and health care professionals to have a systematic program to screen and/or assess drivers to determine whether they have an alcohol or drug abuse problem and, as appropriate, briefly intervene or refer them for appropriate treatment. A marketing campaign should promote year-round screening and brief intervention to medical, health and business partners and to identified audiences. In particular:

○ Criminal Justice System: Within the criminal justice system, people convicted of an impaired driving offense should be assessed to determine whether they have an alcohol or drug abuse problem and whether they need treatment. The assessment should be required by law and completed prior to sentencing or reaching a plea agreement.

○ Medical and Health Care Settings: Within medical or health care settings, any adult or adolescent seen by a medical or health care professional should be screened to determine whether they may have an alcohol or drug abuse problem. A person may have a problem with alcohol abuse or dependence, a brief intervention should be conducted and, if appropriate, the person should be referred for assessment and further treatment.

• Treatment and Rehabilitation: Each State should work with health care professionals, public health departments and third party payers to establish and maintain treatment programs for persons referred through the criminal justice system, medical or health care professionals and other entities. This will help ensure that offenders with alcohol or other drug dependencies begin appropriate treatment and complete recommended treatment before their licenses are reinstated.

• Monitoring Impaired Drivers: Each State should establish a program to facilitate close monitoring of impaired drivers. Controlled input and access to an impaired driver tracking system, with appropriate security protections, is essential. Monitoring functions should be housed in the driver licensing, judicial, corrections and treatment systems. Monitoring systems should be able to determine the status of all offenders in meeting their sentencing requirements for sanctions and/or rehabilitation and must be able to alert courts to non-compliance. Monitoring requirements should be established by law to assure compliance with sanctions by offenders and responsiveness of the judicial system. Non-compliant offenders should be handled swiftly either judicially or administratively. Many localities are successfully utilizing DWI courts or drug courts to monitor DWI offenders.

VI. Program Evaluation and Data

Each State should have access to and analyze reliable data sources for problem identification and program planning. Each State should conduct several different types of evaluations to effectively measure progress, to determine program effectiveness, to plan and implement new program strategies and to ensure that resources are allocated appropriately.

Each State should establish and maintain a records system that uses data from other sources (e.g., U.S. Census, FARS, CODES) to fully support the impaired driving program. A statewide traffic records coordinating committee that represents the interests of all public and private sector stakeholders and the wide range of disciplines that need the information should guide the records system.

Each State's driver licensing agency should maintain a system of records that enables the State to: (1) Identify impaired drivers; (2) maintain a complete driving history of impaired drivers; (3) receive timely and accurate arrest and conviction data from law enforcement agencies and the courts, including data on operators as prescribed by the commercial driver licensing regulations; and (4) provide timely and accurate driver history records to law enforcement and the courts.

Highway Safety Program Guideline Pedestrian and Bicycle Safety Guideline No. 14

Each State, in cooperation with its political subdivisions and tribal governments, should develop and implement a comprehensive highway safety program, reflective of State demographics, to achieve a significant reduction in traffic crashes, fatalities and injuries on public roads. The highway safety program should include a comprehensive pedestrian and bicycle safety program that promotes safe pedestrian and bicycle practices, educates drivers to share the road safely with other road users and provides safe facilities for pedestrians and bicyclists through a combination of policy, enforcement, communication, education, incentive and engineering strategies. This guideline describes the components that a State pedestrian and bicycle safety program should include and the criteria that the program components should meet.

I. Program Management

Each State should have centralized program planning, implementation and coordination to promote pedestrian and bicycle safety program issues as part of a comprehensive highway safety program. Evaluation should be used to revise existing programs, develop new programs and determine progress and success of pedestrian and bicycle safety programs. The State Highway Safety Office (SHSO) should:

• Train program staff to effectively carry out recommended activities;

• Provide leadership, training and technical assistance to other State agencies and local pedestrian and bicycle safety programs and projects;

• Conduct regular problem identification and evaluation activities to determine pedestrian and bicyclist fatality, injury and crash trends and to provide guidance in development and implementation of countermeasures;

• Promote the proper use of bicycle helmets as a primary measure to reduce death and injury among bicyclists;

• Coordinate with the State Department of Transportation to ensure provision of a safe environment for pedestrians and bicyclists through engineering measures such as sidewalks and bicycle facilities in the planning and design of all highway projects;

• Support the enforcement of State bicycle and pedestrian laws by local enforcement agencies; and

• Develop safety initiatives to reduce fatalities and injuries among high-risk groups including children, older adults and alcohol-impaired pedestrians and bicyclists.

II. Multi-disciplinary Involvement

Pedestrian and bicyclist safety requires the support and coordinated activity of multidisciplinary agencies, at both the State and local levels. At a minimum, the following communities should be involved:

• State Pedestrian/Bicycle Coordinators.

• Law Enforcement and Public Safety.

• Education.

• Public Health and Medicine.

• Driver Education and Licensing.

• Transportation—Engineering, Planning, Local Transit.

• Media and Communications.

• Community Safety Organizations.

• Non-Profit Organizations.

III. Legislation, Regulation and Policy

Each State should enact and enforce pedestrian and bicyclist-related traffic laws and regulations, including laws that require the proper use of bicycle helmets. States should develop and enforce appropriate sanctions that compel compliance with laws and regulations. Specific policies should be developed to encourage coordination with appropriate public and private agencies in the development of regulations and laws to promote pedestrian and bicyclist safety.

IV. Law Enforcement

Each State should ensure that State and community pedestrian and bicycle programs include a law enforcement component. Each State should strongly emphasize the role played by law enforcement personnel in pedestrian and bicyclist safety. Essential components of that role include:

• Developing knowledge of pedestrian and bicyclist crash situations, investigating crashes and maintaining a reporting system that documents crash activity and supports problem identification and evaluation activities;

• Providing communication and education support;

• Providing training to law enforcement personnel in pedestrian and bicycle safety;

• Establishing agency policies to support pedestrian and bicycle safety;

• Enforcing pedestrian and bicycle laws;

• Coordinating with and supporting education and engineering activities; and

• Suggesting creative strategies to promote safe pedestrian, bicyclist and motorist behaviors (e.g., citation diversion classes for violators).

V. Highway Engineering

Traffic engineering is a critical element of any motor vehicle crash reduction program, but is especially important for the safe movement of pedestrians and bicyclists. States should utilize national guidelines for constructing safe pedestrian and bicycle facilities in all new transportation projects, and are required to follow all federal regulations on accessibility.

Each State should ensure that State and community pedestrian and bicycle programs include a traffic engineering component that is coordinated with enforcement and educational efforts. This engineering component should improve the safety of pedestrians and bicyclists through the design, construction, operation and maintenance of engineering measures such as:

• Pedestrian, bicycle and school bus loading zone signals, signs and markings;

• Parking regulations;

• Traffic calming, or other approaches for slowing traffic and improving safety;

• On-road facilities (e.g., signed routes, marked lanes, wide curb lanes, paved shoulders);

• Sidewalk design;

• Pedestrian pathways;

• Off-road bicycle facilities (trails and paths); and

• Accommodations for people with disabilities.

VI. Communication Program

Each State should ensure that State and community pedestrian and bicycle programs contain a comprehensive communication component to support program and policy efforts. This component should address coordination with traffic engineering and law enforcement efforts, school-based education programs, communication and awareness campaigns, and other focused educational programs such as those for seniors and other identified high-risk populations. The State should enlist the support of a variety of media; including mass media, to improve public awareness of pedestrian and bicyclist crash problems and programs directed at preventing them. Communication programs should be culturally relevant and address issues such as:

• Visibility, or conspicuity, in the traffic system;

• Correct use of facilities and accommodations;

• Law enforcement initiatives;

• Proper street crossing behavior;

• Safe practices near school buses, including loading and unloading practices;

• The nature and extent of traffic related pedestrian and bicycle fatalities and injuries;

• Driver training regarding pedestrian and bicycle safety;

• Rules of the road;

• Proper selection, use, fit and maintenance of bicycles and bicycle helmets;

• Skills training for bicyclists; and

• Sharing the road safely among motorists and bicyclists.

VII. Outreach Program

Each State should encourage extensive community involvement in pedestrian and bicycle safety education by involving individuals and organizations outside the traditional highway safety community. Outreach efforts should include a focus on reaching vulnerable road users, such as older pedestrians, young children and new immigrant populations. States should also incorporate pedestrian and bicycle safety education into school curricula. To encourage community and school involvement, States should:

• Establish and convene a pedestrian and bicycle safety advisory task force or coalition to organize and generate broad-based support for pedestrian and bicycle programs;

• Create an effective communications network among coalition members to keep members informed and to coordinate efforts;

• Integrate culturally relevant pedestrian and bicycle safety programs into local traffic safety injury prevention initiatives and local transportation plans;

• Provide culturally relevant materials and resources to promote pedestrian and bicycle safety education programs;

• Ensure that highway safety in general, and pedestrian and bicycle safety in particular, are included in the State-approved K-12 health and safety education curricula and textbooks, and in materials for preschool age children and their caregivers;

• Encourage the promotion of safe pedestrian and bicyclist practices (including practices near school buses) through classroom and extra-curricular activities; and

• Establish and enforce written policies requiring safe pedestrian and bicyclist practices to and from school, including proper use of bicycle helmets on school property.

VIII. Driver Education and Licensing

Each State should address pedestrian and bicycle safety in State driver education training (i.e., in the classroom and behind the wheel), materials and licensing programs.

IX. Evaluation Program

Both problem identification and evaluation of pedestrian and bicycle crashes require effective record keeping by State and local government representatives. The State should identify the frequency and type of pedestrian and bicycle crashes to inform selection, implementation and evaluation of appropriate countermeasures. The State should promote effective program evaluation by:

• Supporting detailed analyses of police accident reports involving pedestrians and bicyclists;

• Encouraging, supporting and training localities in process, impact and outcome evaluation of local programs;

• Conducting and publicizing statewide surveys of public knowledge and attitudes about pedestrian and bicyclist safety;

• Maintaining awareness of trends in pedestrian and bicyclist crashes at the national level and how this might influence activities statewide;

• Evaluating the use of program resources and the effectiveness of existing countermeasures for the general public and high-risk populations; and

• Ensuring that evaluation results are used to identify problems, plan new programs and improve existing programs.

Highway Safety Program Guideline

Traffic Enforcement Services

Guideline No. 15

Each State, in cooperation with its political subdivisions and tribal governments, should develop and implement a comprehensive highway safety program, reflective of State demographics, to achieve a significant reduction in traffic crashes, fatalities and injuries on public roads. The highway safety program should include a traffic enforcement services program designed to enforce traffic laws and regulations; reduce traffic-crashes and resulting fatalities and injuries; provide aid and comfort to the injured; investigate and report specific details and causes of traffic crashes; supervise traffic crash and highway incident clean-up; and maintain safe and orderly movement of traffic along the highway system. This guideline describes the components that a State traffic enforcement services program should include and the minimum criteria that the program components should meet.

I. Program Management

A. Planning and Coordination

Each State should have centralized program planning, implementation and coordination to achieve and sustain effective traffic enforcement services. The State Highway Safety Office (SHSO) should provide the leadership, training and technical assistance necessary to:

• Develop and implement a comprehensive highway safety plan for all traffic enforcement service programs, in cooperation with law enforcement (i.e., State, county, local or tribal law enforcement agency leaders);

• Generate broad-based support for traffic enforcement programs;

• Coordinate traffic enforcement services with other traffic safety program areas including Commercial Motor Vehicle (CMV) safety activities such as the Motor Carrier Safety Assistance Program; and

• Integrate traffic enforcement services into traffic safety and other injury prevention programs.

B. Program Elements

State, local and tribal law enforcement agencies, in conjunction with the SHSO, should establish traffic safety services as a priority within their comprehensive enforcement programs. A law enforcement program should be built on a foundation of commitment, cooperation, planning, monitoring, and evaluation within the agency's enforcement program. State, local and tribal law enforcement agencies should:

• Provide the public with effective and efficient traffic enforcement services through enabling legislation and regulations;

• Coordinate activities with State Departments of Transportation to ensure both support and accurate date collection.

• Develop and implement a comprehensive traffic enforcement services program that is focused on general deterrence and inclusive of impaired driving (i.e., alcohol or other drugs), safety belt use and child passenger safety laws, motorcycles, speeding and other programs to reduce hazardous driving behaviors;

• Develop cooperative working relationships with other governmental agencies, community organizations and traffic safety stakeholders on traffic safety and enforcement issues;

• Maintain traffic enforcement strategies and policies for all areas of traffic safety including roadside sobriety checkpoints, safety belt use, pursuit driving, crash investigating and reporting, speed enforcement and hazardous moving traffic violations; and

• Establish performance measures for traffic enforcement services that are both qualitative and quantitative.

Traffic enforcement services should look beyond the issuance of traffic citations to include enforcement of criminal laws and that address drivers of all types of vehicles, including trucks and motorcycles.

II. Resource Management

The SHSO should encourage law enforcement agencies to develop and maintain a comprehensive resource management plan that identifies and deploys resources necessary to effectively support traffic enforcement services. The resource management plan should include a specific component on traffic enforcement services and safety, integrating traffic enforcement services and safety initiatives into a comprehensive agency enforcement program. Law enforcement agencies should:

• Periodically conduct assessments of traffic enforcement service demands and resources to meet identified needs;

• Develop a comprehensive resource management plan that includes a specific traffic enforcement services and safety component;

• Define the management plan in terms of budget requirements and services to be provided; and

• Develop and implement operational strategies and policies that identify the deployment of traffic enforcement services resources to address program demands and agency goals.

III. Training

Training is essential to support traffic enforcement services and to prepare law enforcement officers to effectively perform their duties. Training accomplishes a wide variety of necessary goals and can be obtained through a variety of sources. Law enforcement agencies should periodically assess enforcement activities to determine training needs and to ensure training is endorsed by the State Police Officers Standards and Training (POST) agency. Effective training should:

• Provide officers the knowledge and skills to act decisively and correctly;

• Increase compliance with agency enforcement goals;

• Assist in meeting priorities;

• Improve compliance with established policies;

• Result in greater productivity and effectiveness;

• Foster cooperation and unity of purpose;

• Help offset liability actions and prevent inappropriate conduct by law enforcement officers;

• Motivate and enhance officer professionalism; and

• Require traffic enforcement knowledge and skills for all recruits. Law enforcement agencies should:

• Provide traffic enforcement in-service training to experienced officers;

• Provide specialized CMV in-service training to traffic enforcement officers as appropriate.

• Conduct training to implement specialized traffic enforcement skills, techniques, or programs; and

• Train instructors using certified training in order to increase agency capabilities and to ensure continuity of specialized enforcement skills and techniques.

IV. Traffic Law Enforcement

Providing traffic enforcement services and the enforcement of traffic laws and ordinances is a responsibility shared by all law enforcement agencies. Among the primary objectives of this function is encouraging motorists and pedestrians to comply voluntarily with the laws and ordinances. Administrators should apply their enforcement resources in a manner that ensures the greatest impact on traffic safety. Traffic enforcement services should:

• Include accurate problem identification and countermeasure design;

• Apply at appropriate times and locations, coupled with paid media and communication efforts designed to make the motoring public aware of the traffic safety problem and planned enforcement activities; and

• Include a system to document and report results.

V. Communication Program

States should develop and implement communication strategies directed at supporting policy and program elements. Public awareness and knowledge about traffic enforcement services are essential for sustaining increased compliance with traffic laws and regulations. Communications should highlight and support specific program activities underway in the community and be culturally relevant and appropriate to the audience. This requires a well-organized, effectively managed social marketing campaign that addresses specific high-risk populations. The SHSO, in cooperation with law enforcement agencies, should develop a statewide communications plan and campaign that:

• Identifies and addresses specific audiences at particular risk;

• Addresses enforcement of safety belt use, child passenger safety, impaired driving, speed and other serious traffic laws;

• Capitalizes on special events and awareness campaigns;

• Identifies and supports the efforts of traffic safety activist groups, community coalitions and the health and medical community to gain increased support of, and attention to, traffic safety and enforcement;

• Uses national themes, events and materials;

• Motivates the public to support increased enforcement of traffic laws;

• Educates and reminds the public about traffic laws and safe driving behaviors;

• Disseminates information to the public about agency activities and accomplishments;

• Enhances relationships with news media and health and medical communities;

• Provides safety education and community services;

• Provides legislative and judicial information and support;

• Increases the public's understanding of the enforcement agency's role in traffic safety;

• Markets information about internal activities to sworn and civilian members of the agency;

• Enhances the agency's safety enforcement role and increases employee understanding and support; and

• Recognizes employee achievements.

VI. Data and Program Evaluation

The SHSO, in conjunction with law enforcement agencies, should develop a comprehensive evaluation program to measure progress toward established project goals and objectives; effectively plan and implement statewide, county, local and tribal traffic enforcement services programs; optimize the allocation of limited resources; measure the impact of traffic enforcement on reducing crime and traffic crashes, injuries and deaths; and compare costs of criminal activity to costs of traffic crashes. Data should be collected from police accident reports, daily officer activity reports that contain workload and citation information, highway department records (e.g., traffic volume), citizen complaints and officer observations. Law enforcement managers should:

• Include evaluation in initial program planning efforts to ensure that data will be available and that sufficient resources will be allocated;

• Report results regularly to project and program managers, law enforcement decision-makers and members of the public and private sectors;

• Use results to guide future activities and to assist in justifying resources to governing bodies;

• Conduct a variety of surveys to assist in determining program effectiveness, such as roadside sobriety surveys, speed surveys, license checks, belt use surveys and surveys measuring public knowledge and attitudes about traffic enforcement programs;

• Evaluate the effectiveness of services provided in support of priority traffic safety areas;

• Maintain and report traffic data to appropriate repositories, such as police accident reports, the FBI Uniform Crime Report, FMCSA's SAFETYNET system and annual statewide reports; and

• Evaluate the impact of traffic enforcement services on criminal activity.

An effective records program should:

• Provide information rapidly and accurately;

• Provide routine compilations of data for management use in the decision making process;

• Provide data for operational planning and execution;

• Interface with a variety of data systems, including statewide traffic safety records systems; and

• Be accessible to enforcement, planners and management.

Highway Safety Program Guideline Speed Management Guideline No. 19

Each State, in cooperation with its political subdivisions and tribal governments, should develop and implement a comprehensive highway safety program, reflective of State demographics, to achieve a significant reduction in traffic crashes, fatalities and injuries on public roads. The highway safety program should include a comprehensive speed management program that encourages citizens to voluntarily comply with speed limits. This guideline describes the components that a State speed management program should contain and the criteria that the program components should meet.

Speed management involves a balanced program effort that includes: Defining the relationship between speed, speeding and safety; applying road design and engineering measures to obtain appropriate speeds; setting speed limits that are safe and reasonable; applying enforcement efforts and appropriate technology that effectively target speeders and deter speeding; marketing communication and educational messages that focus on high-risk drivers; and soliciting the cooperation, support and leadership of traffic safety stakeholders.

I. Program Management

While speeding is a national problem, effective solutions must be applied locally. The success of a speed management program is enhanced by coordination and cooperation among the engineering, enforcement and educational disciplines. To reduce speeding-related fatalities, injuries and crashes, State, local or tribal governments should:

• Provide the NHTSA Speed Management Workshop that offers a comprehensive approach to speed management through partnering a broad range of transportation and safety disciplines. This multi-disciplinary team improves communication and cooperation and facilitates the development of innovative strategies for reducing speeding-related fatalities and injuries.

• Establish a Speed Management Working Group as outlined in the Speed Management Workshop Guidelines to develop and implement a localized action plan that identifies specific speeding and speeding-related crash problems and the actions necessary to address problems and to establish the credibility of posted speed limits.

The action plan should:

• Galvanize a localized effort and identify specific actions to be taken to effectively address managing speed and reducing speeding-related crash risks;

• Address how to effectively overcome institutional and jurisdictional barriers to setting appropriate speed limits and enforcement practices;

• Address how to effectively coordinate with stakeholders across organizations and disciplines to improve support needed for establishing an effective speed management program; and

• Address how to effectively communicate and exchange information between the transportation disciplines and the public to reinforce the importance of setting and enforcing appropriate speed limits.

II. Problem Identification

The relationship between speed limits, travel speeds and speed differential are the defining components of speed management as a highway safety issue. Speed increases crash severity, however, crash probability resulting from speed and speed differential is not clearly defined. Data collection and analysis is required to identify and develop countermeasures and awareness initiatives that lead to appropriate modifications in driver behavior. To achieve this goal, States should assist Speed Management Working Groups in making appropriate decisions about concentrated resource allocation. Each State should provide leadership, training and technical assistance to:

• Monitor and report travel speed trends across the entire localized road network;

• Identify local road segments where excessive and inappropriate vehicle speeds contribute to speeding-related crashes;

• Monitor the effects on vehicle speeds and crash risk of setting appropriate speed limits; and

• Coordinate, monitor and evaluate the short- and long-term effect of State legislative and local ordinance changes that establish appropriate speed laws and posted speed limits on mobility and safety.

III. Engineering Countermeasurers

The establishment of appropriate speed limits facilitates voluntary public compliance and is the cornerstone for effective speed management. Speed management techniques and technology can be engineered into the existing highway system or incorporated into the Intelligent Transportation System to improve voluntary compliance with speed limits and prevent speeding. The State should aid established Speed Management Working Groups by providing the leadership, training and technical assistance necessary to:

• Comply with the Manual on Uniform Traffic Control Devices guidelines to establish appropriate speed limits;

• Provide a computer-based expert system speed zone advisor to set credible, safe and consistent speed limits;

• Train traffic engineers in the proper techniques to deploy speed-monitoring devices and conduct engineering studies for the purpose of establishing appropriate speed limits;

• Determine and apply the appropriate frequency for speed limit signs;

• Identify sites and applications where variable speed limit signs can reinforce appropriate speed limits for prevailing conditions;

• Identify and apply appropriate traffic calming techniques for reducing speed in pedestrian and bicyclist activity areas;

• Employ speed-activated roadside displays that warn drivers exceeding safe speeds based on roadway curve geometry, pavement friction and/or vehicle characteristics; and

• Promote the application of onboard vehicle and communication technologies that prevent drivers from exceeding safe speeds, including adaptive cruise control, vehicle limit sensing and feedback, driver control speed limitors, wireless roadside beacons, vehicle infrastructure integrated safety systems and stability control systems.

IV. Communication Program

Communication strategies, accompanied by enforcement, can modify driver behavior. Communication programs should be developed to ensure motorist acceptance and to enhance compliance with the introduction of revised speed limits and strict enforcement operations. If the public is not aware of, or does not understand, the potential consequences of speeding to themselves and others, they are unlikely to adjust speeds for traffic and weather conditions, or to comply with posted speed limits. The State should aid established Speed Management Working Groups by providing the leadership, training and technical assistance necessary to:

• Develop and evaluate public awareness campaigns to educate drivers on the importance of obeying speed limits and the potential consequences of speeding;

• Use market research to identify and clearly understand how, when and where to reach high-risk drivers;

• Develop a strategy to educate the public about why and how speed limits are set;

• Capitalize on special enforcement activities or events such as saturation patrols and sobriety checkpoints, impaired driving crackdowns, occupant protection mobilizations, and other highly publicized sustained enforcement activities;

• Identify and collaboratively support efforts of highway safety partners, traffic safety stakeholders and the health and medical communities to include speed management as a priority safety, economic and public health issue; and

• Promote responsible driver behavior and speed compliance in advertising.

V. Enforcement Countermeasurers

Enforcement is critical to achieve compliance with speed limits. More than half of all traffic stops result from speeding violations, and public support for speed enforcement activities depends on the confidence of the public that speed enforcement is fair, rational and motivated by safety concerns. The State should provide the leadership, training and technical assistance necessary to:

• Support speed enforcement operations that:

◦ Compliment a comprehensive speed management program including traffic engineering, enforcement, judiciary and public support;

◦ Strategically address speeders, locations and conditions most common or most hazardous in speeding-related crashes; and

◦ Support the national commercial motor vehicle safety enforcement program;

• Integrate speed enforcement into related highway safety and priority enforcement activities such as impaired driving prevention, safety belt use, motorcycle rider training and other injury control activities;

• Provide speed enforcement guidelines that promote driver compliance with appropriately set speed limits;

• Coordinate speed enforcement programs with educational and media communication activities;

• Ensure the accuracy and reliability of speed-measuring devices used during speed enforcement operations through compliance with the appropriate performance specifications and established testing protocols;

• Ensure the knowledge, skills and abilities of law enforcement officers involved in speed enforcement activities through comprehensive speed management training and appropriate speed-measuring device operator training programs; and

• Promote the proper use of automated speed enforcement programs, application of automated speed enforcement technologies and compliance with automated speed enforcement implementation guidelines designed to deter speeding effectively and to prohibit revenue generation beyond reasonable operational cost.

VI. Legislation, Regulation and Policy

A key component of a successful speed management program is consistent, effective public policy to support speed management strategies and countermeasures. Traffic court judges, prosecutors, safety organizations, health professionals, lawmakers and policy makers have a stake in establishing the legitimacy of speed limits and effectively managing speed to reduce injuries and fatalities. The support and leadership of traffic court judges and prosecutors is essential to ensure that speeding violations are treated seriously and consistently. Safety goals can only be achieved through the leadership of local authorities who are responsible for implementing most speed management measures. Each State should aid established Speed Management Working Groups by providing the leadership, training and technical assistance necessary to:

• Promote speed management as a public policy priority;

• Create a network of key partners to carry the speed management message and leverage their resources to extend the reach and frequency of a speed management communication program;

• Target speed management initiatives at sites and on highways that offer the greatest opportunity for making a significant reduction in speeding-related crashes;

• Provide speed management program information and training opportunities for traffic court judges and prosecutors that outline the negative effects of speeding on the quality of life in their communities;

• Provide sentencing guidelines to ensure and promote consistent treatment of violators in order to defuse any public perception that speed limits are arbitrary or capricious; and

• Promote and provide speed management workshops within communities to enhance communications and support for the implementation of a comprehensive, balanced and effective speed management program.

VII. Data and Evaluation

An evaluation component is a critical element of any speed management program. The evaluation design should measure the impact and effectiveness of a comprehensive speed management program on traffic fatalities, injuries and crashes and provide information for future program revisions, improvement and planning. The State should aid established Speed Management Working Groups by providing the leadership, training and technical assistance necessary to:

• Include an evaluation component in the initial program planning efforts to ensure that data will be available and that sufficient resources will be allocated;

• Provide reports regularly to a Speed Management Working Group, project and program managers; law enforcement commanders and officers; transportation engineers; members of the highway safety, health and medical communities; public and private sectors; and other traffic safety stakeholders;

• Use evaluation results to verify problem identification, guide future speed management activities and assist in justifying resources to legislative bodies;

• Conduct surveys to determine program effectiveness and public knowledge and attitudes about the speed management program;

• Analyze speed compliance and speeding-related crashes in areas with actual hazards to the public;

• Evaluate the effectiveness of speed management activities provided in relation to other priority traffic safety areas;

• Maintain and report traffic data to the SHSO and other appropriate repositories, including the FBI Uniform Crime Reports, FMCSA's SAFETYNET system and annual statewide reports.

Highway Safety Program Guideline

Occupant Protection

Guideline No. 20

Each State, in cooperation with its political subdivisions and tribal governments, should develop and implement a comprehensive highway safety program, reflective of State demographics, to achieve a significant reduction in traffic crashes, fatalities and injuries on public roads. The highway safety program should include a comprehensive occupant protection program that educates and motivates the public to properly use available motor vehicle occupant protection systems. A combination of legislation and use requirements, enforcement, communication, education and incentive strategies is necessary to achieve significant, lasting increases in safety belt and child safety seat usage. This guideline describes the components that a State occupant protection program should include and the criteria that the program components should meet.

I. Program Management

Each State should have centralized program planning, implementation and coordination to achieve and sustain high rates of safety belt use. Evaluation should be used to revise existing programs, develop new programs and determine progress and success. The State Highway Safety Office (SHSO) should:

• Provide leadership, training and technical assistance to other State agencies and local occupant protection programs and projects;

• Establish and convene an occupant protection advisory task force or coalition to organize and generate broad-based support for programs. The coalition should include agencies and organizations that are representative of the State's demographic composition and critical to the implementation of occupant protection initiatives;

• Integrate occupant protection programs into community/corridor traffic safety and other injury prevention programs; and

• Evaluate the effectiveness of the State's occupant protection program.

II. Legislation, Regulation and Policy

Each State should enact and enforce occupant protection use laws, regulations and policies to provide clear guidance to the public concerning motor vehicle occupant protection systems. This legal framework should include:

• Legislation permitting primary enforcement that requires all motor vehicle occupants to use systems provided by the vehicle manufacturer;

• Legislation permitting primary enforcement that requires that children birth to 16 years old (or the State's driving age) be properly restrained in an appropriate child restraint system (i.e., certified by the manufacturer to meet all applicable Federal safety standards) or safety belt;

• Legislation permitting primary enforcement that requires children under 13 years old to be properly restrained in the rear seat (unless all available rear seats are occupied by younger children);

• Graduated Driver Licensing (GDL) laws that include three stages of licensure, and that place restrictions and sanctions on high-risk driving situations for novice drivers (i.e., nighttime driving restrictions, passenger restrictions, zero tolerance, required safety belt use);

• Regulations requiring employees and contractors at all levels of government to wear safety belts when traveling on official business;

• Official policies requiring that organizations receiving Federal highway safety program grant funds develop and enforce an employee safety belt use policy; and

• Encouragement to motor vehicle insurers to offer economic incentives for policyholders who wear safety belts and secure children in child safety seats or other appropriate restraints.

III. Enforcement Program

Each State should conduct frequent, high-visibility law enforcement efforts, coupled with communication strategies, to increase safety belt and child safety seat use. Essential components of a law enforcement program include:

• Written, enforced safety belt use policies for law enforcement agencies with sanctions for noncompliance to protect law enforcement officers from harm and for officers to serve as role models for the motoring public;

• Vigorous enforcement of safety belt and child safety seat laws, including citations and warnings;

• Accurate reporting of occupant protection system information on police accident report forms, including safety belt and child safety seat use or non-use, restraint type, and airbag presence and deployment;

• Communication campaigns to inform the public about occupant protection laws and related enforcement activities;

• Routine monitoring of citation rates for non-use of safety belts and child safety seats;

• Use of National Child Passenger Safety Certification (basic and in-service) for law enforcement officers.

• Utilization of Law Enforcement Liaisons (LELs), for activities such as promotion of national and local mobilizations and increasing law enforcement participation in such mobilizations and collaboration with local chapters of police groups and associations that represent diverse groups (e.g., NOBLE, HAPCOA) to gain support for enforcement efforts.

IV. Communication Program

As part of each State's communication program, the State should enlist the support of a variety of media, including mass media, to improve public awareness and knowledge and to support enforcement efforts about safety belts, air bags, and child safety seats. To sustain or increase rates of safety belt and child safety seat use, a well organized, effectively managed communication program should:

• Identify specific audiences (e.g., low belt use, high-risk motorists) and develop messages appropriate for these audiences;

• Address the enforcement of the State's safety belt and child passenger safety laws; the safety benefits of regular, correct safety belt (both manual and automatic) and child safety seat use; and the additional protection provided by air bags;

• Capitalize on special events, such as nationally recognized safety and injury prevention weeks and local enforcement campaigns;

• Provide materials and media campaigns in more than one language as necessary;

• Use national themes and materials;

• Participate in national programs to increase safety belt and child safety seat use and use law enforcement as the State's contribution to obtaining national public awareness through concentrated, simultaneous activity;

• Utilize paid media, as appropriate;

• Publicize safety belt use surveys and other relevant statistics;

• Encourage news media to report safety belt use and non-use in motor vehicle crashes;

• Involve media representatives in planning and disseminating communication campaigns;

• Encourage private sector groups to incorporate safety belt use messages into their media campaigns;

• Utilize and involve all media outlets: television, radio, print, signs, billboards, theaters, sports events, health fairs; and

• Evaluate all communication campaign efforts.

V. Occupant Protection for Children Program

Each State should enact occupant protection laws that require the correct restraint of all children, in all seating positions and in every vehicle. Regulations and policies should exist that provide clear guidance to the motoring public concerning occupant protection for children. Each State should require that children birth to 16 years old (or the State's driving age) be properly restrained in the appropriate child restraint system or safety belt. Gaps in State child passenger safety and safety belt laws should be closed to ensure that all children are covered in all seating positions, with requirements for age-appropriate child restraint use. Key provisions of the law should include: driver responsibility for ensuring that children are properly restrained; proper restraint of children under 13 years of age in the rear seat (unless all available rear seats are occupied by younger children); a ban of passengers from the cargo areas of light trucks; and a limit on the number of passengers based on the number of available safety belts in the vehicle. To achieve these objectives, State occupant protection programs for children should:

• Collect and analyze key data elements in order to evaluate the program progress;

• Assure that adequate and accurate training is provided to the professionals who deliver and enforce the occupant protection programs for parents and caregivers;

• Assure that the capability exists to train and retain nationally certified child passenger safety technicians to address attrition of trainers or changing public demographics;

• Promote the use of child restraints and assure that a plan has been developed to provide an adequate number of inspection stations and clinics, which meet minimum quality criteria;

• Maintain a strong law enforcement program that includes vigorous enforcement of the child occupant protection laws;

• Enlist the support of the media to increase public awareness about child occupant protection laws and the use of child restraints. Strong efforts should be made to reach underserved populations;

• Assure that the child occupant protection programs at the local level are periodically assessed and that programs are designed to meet the unique demographic needs of the community;

• Establish the infrastructure to systematically coordinate the array of child occupant protection program components; and

• Encourage law enforcement participation in the National Child Passenger Safety Certification (basic and in-service) training for law enforcement officers.

VI. Outreach Program

Each State should encourage extensive statewide and community involvement in occupant protection education by involving individuals and organizations outside the traditional highway safety community. Representation from the health, business and education sectors, and from diverse populations, within the community should be encouraged. Community involvement should broaden public support for the State's programs and increase a State's ability to deliver highway safety education programs. To encourage statewide and community involvement, States should:

• Establish a coalition or task force of individuals and organizations to actively promote use of occupant protection systems;

• Create an effective communications network among coalition members to keep members informed about issues;

• Provide culturally relevant materials and resources necessary to conduct occupant protection education programs, especially directed toward young people, in local settings; and

• Provide materials and resources necessary to conduct occupant protection education programs, especially directed toward specific cultural or otherwise diverse populations represented in the State and in its political subdivisions.

States should undertake a variety of outreach programs to achieve statewide and community involvement in occupant protection education, as described below. Programs should include outreach to diverse populations, health and medical communities, schools and employers.

A. Diverse Populations

Each State should work closely with individuals and organizations that represent the various ethnic and cultural populations reflected in State demographics. Individuals from these groups might not be reached through traditional communication markets. Community leaders and representatives from the various ethnic and cultural groups and organizations will help States to increase the use of child safety seats and safety belts. The State should:

• Evaluate the need for, and provide, if necessary, materials and resources in multiple languages;

• Collect and analyze data on fatalities and injuries in diverse communities;

• Ensure representation of diverse groups on State occupant protection coalitions and other work groups;

• Provide guidance to grantees on conducting outreach in diverse communities;

• Utilize leaders from diverse communities as spokespeople to promote safety belt use and child safety seats; and

• Conduct outreach efforts to diverse organizations and populations during law enforcement mobilization periods.

B. Health and Medical Communities

Each State should integrate occupant protection into health programs. The failure of drivers and passengers to use occupant protection systems is a major public health problem that must be recognized by the medical and health care communities. The SHSO, the State Health Department and other State or local medical organizations should collaborate in developing programs that:

• Integrate occupant protection into professional health training curricula and comprehensive public health planning;

• Promote occupant protection systems as a health promotion/injury prevention measure;

• Require public health and medical personnel to use available motor vehicle occupant protection systems during work hours;

• Provide technical assistance and education about the importance of motor vehicle occupant protection to primary caregivers (e.g., doctors, nurses, clinic staff);

• Include questions about safety belt use in health risk appraisals;

• Utilize health care providers as visible public spokespeople for safety belt use and child safety seat use;

• Provide information about the availability of child safety seats at, and integrate child safety seat inspections into, maternity hospitals and other prenatal and natal care centers; and

• Collect, analyze and publicize data on additional injuries and medical expenses resulting from non-use of occupant protection devices.

C. Schools

Each State should encourage local school boards and educators to incorporate occupant protection education into school curricula. The SHSO in cooperation with the State Department of Education should:

• Ensure that highway safety and traffic-related injury control, in general, and occupant protection, in particular, are included in the State-approved K-12 health and safety education curricula and textbooks;

• Establish and enforce written policies requiring that school employees use safety belts when operating a motor vehicle on the job; and

• Encourage active promotion of regular safety belt use through classroom and extracurricular activities as well as in school-based health clinics; and

• Work with School Resource Officers (SROs) to promote safety belt use among high school students;

• Establish and enforce written school policies that require students driving to and from school to wear safety belts. Violation of these policies should result in revocation of parking or other campus privileges for a stated period of time.

D. Employers

Each State and local subdivision should encourage all employers to require safety belt use on the job as a condition of employment. Private sector employers should follow the lead of Federal and State government employers and comply with Executive Order 13043, “Increasing Seat Belt Use in the United States” as well as all applicable Federal Motor Carrier Safety Administration (FMCSA) Regulations or Occupational Safety and Health Administration (OSHA) regulations requiring private business employees to use safety belts on the job. All employers should:

• Establish and enforce a safety belt use policy with sanctions for non-use; and

• Conduct occupant protection education programs for employees on their safety belt use policies and the safety benefits of motor vehicle occupant protection devices.

VII. Data and Program Evaluation

Each State should access and analyze reliable data sources for problem identification and program planning. Each State should conduct several different types of evaluation to effectively measure progress and to plan and implement new program strategies. Program management should:

• Conduct and publicize at least one statewide observational survey of safety belt and child safety seat use annually, making every effort to ensure that it meets current, applicable Federal guidelines;

• Maintain trend data on child safety seat use, safety belt use and air bag deployment in fatal crashes;

• Identify high-risk populations through observational usage surveys and crash statistics;

• Conduct and publicize statewide surveys of public knowledge and attitudes about occupant protection laws and systems;

• Obtain monthly or quarterly data from law enforcement agencies on the number of safety belt and child passenger safety citations and convictions;

• Evaluate the use of program resources and the effectiveness of existing general communication as well as special/high-risk population education programs;

• Obtain data on morbidity, as well as the estimated cost of crashes, and determine the relation of injury to safety belt use and non-use; and

• Ensure that evaluation results are an integral part of new program planning and problem identification.

Dated: February 3, 2006.
Marilena Amoni,
Associate Administrator, Program Development and Delivery, NHTSA.

[FR Doc. 06-1204 Filed 2-8-06; 8:45 am]

BILLING CODE 4910-59-P